DEPARTMENT OF TRANSPORTATION

Federal Aviation Administration

14 CFR Part 39

[Docket No. FAA-2018-0842; Product Identifier 2018-CE-025-AD; Amendment 39-21205; AD 2020-16-20]

RIN 2120-AA64

Airworthiness Directives; Pacific Aerospace Limited Airplanes

AGENCY: Federal Aviation Administration (FAA), Department of Transportation (DOT).

ACTION: Final rule.

SUMMARY: The FAA is superseding Airworthiness Directive (AD) AD 2018-04-09 for Pacific Aerospace Limited Model 750XL airplanes. This AD results from mandatory continuing airworthiness information (MCAI) issued by an aviation authority of another country to identify and correct an unsafe condition on an aviation product. The MCAI describes the unsafe condition as incorrectly marked and annunciated low oil-pressure indication warnings. The FAA is issuing this AD to address the unsafe condition on these products.

DATES: This AD is effective September 22, 2020.

The Director of the Federal Register approved the incorporation by reference of certain publications listed in the AD as of September 22, 2020.

The Director of the Federal Register approved the incorporation by reference of a certain other publication listed in this AD as of April 12, 2018 (83 FR 9793, March 8, 2018).

ADDRESSES: For service information identified in this AD, contact Pacific Aerospace Limited, Airport Road, Hamilton, Private Bag 3027, Hamilton 3240, New Zealand; telephone: +64 7 843 6144; facsimile: +64 7 843 6134; email: pacific@aerospace.co.nz; internet: https://www.aerospace.co.nz. You may view this referenced service information at the FAA, Airworthiness Products Section, Operational Safety Branch, 901 Locust, Kansas City, Missouri 64106. For information on the availability of this material at the FAA, call (816) 329-4148. It is also available on the internet at https://www.regulations.gov by searching for Docket No. FAA-2018-0842.

Examining the AD Docket

You may examine the AD docket on the internet at https://www.regulations.gov by searching for and locating Docket No. FAA-2018-0842; or in person at Docket Operations between 9 a.m. and 5 p.m., Monday through Friday, except Federal holidays. The AD docket contains this final rule, the regulatory evaluation, any comments received, and other information. The address for Docket Operations is U.S. Department of Transportation, Docket Operations, M 30, West Building Ground Floor, Room W12 140, 1200 New Jersey Avenue SE, Washington, DC 20590.

FOR FURTHER INFORMATION CONTACT: Mike Kiesov, Aerospace Engineer, FAA, General Aviation & Rotorcraft Section, International Validation Branch, 901 Locust, Room 301, Kansas City, Missouri 64106; telephone: (816) 329-4144; fax: (816) 329-4090; email: mike.kiesov@faa.gov.

SUPPLEMENTARY INFORMATION:

Discussion

The FAA issued a supplemental notice of proposed rulemaking (SNPRM) to amend 14 CFR part 39 by removing AD 2018-04-09, Amendment 39-19205 (83 FR 9793, March 8, 2018) (AD 2018-04-09) and adding a new AD. AD 2018-04-09 applied to Pacific Aerospace Limited Model 750XL airplanes and was based on MCAI issued by the Civil Aviation Authority (CAA), which is the aviation authority for New Zealand. The SNPRM published in the Federal Register on June 10, 2019 (84 FR 26775). The FAA preceded the SNPRM with a notice of proposed rulemaking (NPRM) that published in the Federal Register on October 23, 2018 (83 FR 53409).

The NPRM proposed to require revising the existing airplane flight manual (AFM) (pilot's operating handbook (POH)) with updated provisions, clarify that the pressure switch for the low oil pressure light may be replaced or modified, and retain the requirement to replace the oil pressure/temperature indicator. The NPRM was based on the CAA's revision to its previous MCAI, CAA AD DCA/750XL/19A, dated April 26, 2018 (referred to after this as “the MCAI”), to mandate the AFM revisions and also to include an option to modify certain oil pressure switches. The MCAI states: DCA/750XL/19A revised to introduce revision 30 March 2018 for PAL 750XL POH AIR3237, and clarify the AD requirements.

After issuing the NPRM, the FAA discovered an error in the title of one of the flight manuals to be revised. The SNPRM proposed to correct the error. The FAA is issuing this AD to require new revisions of the existing AFM, clarify the requirement to replace or modify the pressure switch for the low oil pressure light, and retain the requirement to replace a certain oil pressure/temperature indicator.

You may examine the MCAI on the internet at https://www.regulations.gov by searching for and locating Docket No. FAA-2018-0842-0002.

Comments

The FAA gave the public the opportunity to participate in developing this AD. The FAA received no comments on the SNPRM or on the determination of the cost to the public.

Changes to the AD

The FAA identified an incorrect Air Transport Association of America (ATA) Code of 57 for Wing in paragraph (d), Subject, of the SNPRM. The FAA has changed paragraph (d), Subject, of this AD to identify the correct ATA Code of 79 for Engine Oil.

Conclusion

The FAA reviewed the relevant data and determined that air safety and the public interest require adopting the AD as proposed except for the correction to the ATA Code. The FAA has determined that this change:

• Is consistent with the proposal in the SNPRM for correcting the unsafe condition; and

• Does not add any burden upon the public than was already proposed in the SNPRM.

Related Service Information Under 1 CFR Part 51

The FAA reviewed Pacific Aerospace Temporary Revision Instruction Letter, dated October 2017, which includes Pacific Aerospace Temporary Revisions XL/POH/00/001, XL/POH/02/001, and XL/POH/03/001; and Pacific Aerospace Revision Instruction Letter, dated March 2018, which includes Pacific Aerospace POH AIR 3237 Revision, dated March 30, 2018, for 750XL airplanes. For the applicable configurations, the service information includes revisions to the AFM that corrects the incorrect instrument markings.

The FAA also reviewed Pacific Aerospace Mandatory Service Bulletin PACSB/XL/088, dated August 11, 2017, which was previously approved for incorporation by reference on April 12, 2018 (83 FR 9793, March 8, 2018), and describes procedures for replacement or modification of the low oil-pressure light, pressure switch, and indicator. This service information is reasonably available because the interested parties have access to it through their normal course of business or by the means identified in the ADDRESSES section.

FAA's Determination and Requirements of the Proposed AD

This product has been approved by the aviation authority of another country, and is approved for operation in the United States. Pursuant to our bilateral agreement with this State of Design Authority, it has notified us of the unsafe condition described in the MCAI and service information referenced above. The FAA is proposing this AD because the agency evaluated all information and determined the unsafe condition exists and is likely to exist or develop on other products of the same type design.

Costs of Compliance

The FAA estimates that this AD will affect 22 products of U.S. registry. The FAA also estimates that it would take about 2 work-hours per product to comply with the basic requirements of this AD. The average labor rate is $85 per work-hour. Required parts would cost about $500 per product.

Based on these figures, the FAA estimates the cost of this AD on U.S. operators to be $14,740, or $670 per product.

Since this AD requires the same actions as AD 2018-04-09, the costs of compliance remain the same and do not impose any additional costs on U.S. operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2018-04-09, Amendment 39-19205 (83 FR 9793, March 8, 2018); and

b. Adding the following new AD:

2020-16-20 Pacific Aerospace Limited: Amendment 39-21205; Docket No. FAA-2018-0842; Product Identifier 2018-CE-025-AD.

(a) Effective Date

This airworthiness directive (AD) becomes effective September 22, 2020.

(b) Affected ADs

This AD replaces AD 2018-04-09, Amendment 39-19205 (83 FR 9793, March 8, 2018) (2018-04-09).

(c) Applicability

This AD applies to Pacific Aerospace Limited Model 750XL airplanes, all serial numbers up to 217, certificated in any category.

(d) Subject

Air Transport Association of America (ATA) Code 79: Engine Oil.

(e) Reason

This AD was prompted by mandatory continuing airworthiness information (MCAI) originated by an aviation authority of another country to identify and correct an unsafe condition on an aviation product. The MCAI describes the unsafe condition as incorrectly marked and annunciated low oil-pressure indication warnings. The FAA is issuing this AD to prevent engine oil pressure from dropping below safe limits, which could cause possible engine damage or failure.

(f) Actions and Compliance

Unless already done, do the following actions in paragraphs (f)(1) through (4) of this AD, as applicable:

(1) For airplanes with Pacific Aerospace Pilot's Operating Handbook and Civil Aviation Authority of New Zealand Approved Flight Manual AIR 2825 (AIR 2825): Within the next 30 days after September 22, 2020 (the effective date of this AD), insert Pacific Aerospace Temporary Revisions XL/POH/00/001, XL/POH/02/001, and XL/POH/03/001 into the Pacific Aerospace Limited 750XL AIR 2825 Airplane Flight Manual as specified in Pacific Aerospace Temporary Revision Instruction Letter, dated October 2017.

(2) For airplanes with Pacific Aerospace Pilot's Operating Handbook and Civil Aviation Authority of New Zealand Approved Flight Manual AIR 3237 (AIR 3237): Within the next 30 days after September 22, 2020 (the effective date of this AD), insert the Revision dated March 30, 2018, into the PAL 750XL AIR 3237 Airplane Flight Manual as specified in Pacific Aerospace Revision Instruction Letter, dated March 30, 2018.

(3) For Pacific Aerospace 750XL airplanes up to serial number 217: Within the next 100 hours time-in-service (TIS) after April 12, 2018 (the effective date of AD 2018-04-09) or within the next 12 months after April 12, 2018 (the effective date of AD 2018-04-09), whichever occurs first, replace or modify the pressure switch for the low oil pressure light by following the Part A—Accomplishment Instructions of PAL Mandatory Service Bulletin (MSB) PACSB/XL/088, dated August 11, 2017.

(4) For Pacific Aerospace 750XL airplanes up to serial number 217 with a part number (P/N) INS 60-8 oil pressure/temperature indicator installed: Within the next 100 hours TIS after April 12, 2018 (the effective date of AD 2018-04-09) or within the next 12 months after April 12, 2018 (the effective date of AD 2018-04-09), whichever occurs first, replace the oil pressure/temperature indicator with P/N INS 60-15 by following the Part B—Accomplishment Instructions of PAL MSB PACSB/XL/088, paragraphs 1) through 6), dated August 11, 2017.

(g) Alternative Methods of Compliance (AMOCs)

The Manager, International Validation Branch, FAA, has the authority to approve AMOCs for this AD, if requested using the procedures found in 14 CFR 39.19. Send information to Mike Kiesov, Aerospace Engineer, FAA, General Aviation & Rotorcraft Section, International Validation Branch, 901 Locust, Room 301, Kansas City, Missouri 64106; telephone: (816) 329-4144; fax: (816) 329-4090; email: mike.kiesov@faa.gov. Before using any approved AMOC on any airplane to which the AMOC applies, notify your appropriate principal inspector (PI) in the FAA Flight Standards District Office (FSDO), or lacking a PI, your local FSDO.

(h) Related Information

Refer to CAA MCAI AD No. DCA/750XL/19A, dated April 26, 2018, for related information. The MCAI can be found in the AD docket on the internet at: https://www.regulations.gov/document?D=FAA-2018-0842-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on September 22, 2020 (the effective date of this AD):

(i) Pacific Aerospace Temporary Revision Instruction Letter, dated October 2017.

(ii) Pacific Aerospace Revision Instruction Letter, dated March 2018.

(4) The following service information was approved for IBR on April 12, 2018 (83 FR 9793, March 8, 2018).

(i) Pacific Aerospace Mandatory Service Bulletin PACSB/XL/088, dated August 11, 2017.

(ii) [Reserved]

(5) For Pacific Aerospace Limited service information identified in this AD, contact Pacific Aerospace Limited, Airport Road, Hamilton, Private Bag 3027, Hamilton 3240, New Zealand; telephone: +64 7 843 6144; facsimile: +64 7 843 6134; email: pacific@aerospace.co.nz; internet: www.aerospace.co.nz.

(6) You may view this service information at FAA, Airworthiness Products Section, Operational Safety Branch, 901 Locust, Kansas City, Missouri 64106. For information on the availability of this material at the FAA, call 816-329-4148. In addition, you can access this service information on the internet at https://www.regulations.gov by searching for and locating Docket No. FAA-2018-0842.

(7) You may view this service information that is incorporated by reference at the National Archives and Records Administration (NARA). For information on the availability of this material at NARA, email: fedreg.legal@nara.gov, or go to: https://www.archives.gov/federal-register/cfr/ibr-locations.html.

Issued on August 12, 2020.
Gaetano A. Sciortino,
Deputy Director for Strategic Initiatives, Compliance & Airworthiness Division, Aircraft Certification Service.

[FR Doc. 2020-17983 Filed 8-17-20; 8:45 am]

BILLING CODE 4910-13-P